DEPARTMENT OF THE INTERIOR

National Park Service

[2253-665]

Notice of Intent To Repatriate Cultural Items: Museum of Indian Arts & Culture/Laboratory of Anthropology, Museum of New Mexico, Santa Fe, NM

AGENCY: National Park Service, Interior.

ACTION: Notice.

SUMMARY: The Museum of Indian Arts & Culture/Laboratory of Anthropology, Museum of New Mexico, in consultation with the appropriate Indian tribe, has determined that the cultural items meet the definition of unassociated funerary objects and repatriation to the Indian tribe stated below may occur if no additional claimants come forward. Representatives of any Indian tribe that believes itself to be culturally affiliated with the cultural items may contact the Museum of Indian Arts & Culture/Laboratory of Anthropology, Museum of New Mexico.

DATES: Representatives of any Indian tribe that believes it has a cultural affiliation with the cultural items should contact the Museum of Indian Arts & Culture/Laboratory of Anthropology, Museum of New Mexico, at the address below by May 21, 2012.

ADDRESSES: Dr. Shelby Tisdale, Director, Museum of Indian Arts & Culture, Museum of New Mexico, P.O. Box 2087, Santa Fe, NM 87504, telephone (505) 476-1251.

SUPPLEMENTARY INFORMATION: Notice is here given in accordance with the Native American Graves Protection and Repatriation Act (NAGPRA), 25 U.S.C. 3005, of the intent to repatriate cultural items in the possession of the Museum of Indian Arts & Culture/Laboratory of Anthropology, Museum of New Mexico, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

The 29 cultural items to be repatriated are funerary objects consisting of two Agua Fria glaze bowl fragments, four Agua Fria glaze-on-red bowls, one Cieneguilla glaze-on-yellow cup, one Santa Fe black-on-white bowl, one San Clemente glaze bowl, one selenite fragment, one ceramic pipe, eight pendants and pendant fragments, six bone beads from a cradle board, three lightening stones, and one fingerstone. These objects were removed from site LA 162 (Paa'ko site) in Bernalillo County, NM, during permitted excavations, conducted jointly by the Museum of New Mexico, the School of American Research, and the University of New Mexico between 1935 and 1937. Although the objects are recorded as excavated from numbered burials at site LA 162, the associated human remains are in the custody of the San Diego Museum of Man. Based on material culture, architectural features, and documentary evidence, the Paa'ko site dates to the period Pueblo IV through the early historic periods (AD 1300-1692).

Based on documentation provided by the original excavators, the cultural items have been identified as funerary objects related to specific burials at the Paa'ko site. Based on burial location and associated material culture and architecture, the burials and funerary objects have been identified as Native American. These funerary objects have been identified as ancestral to the Pueblo of Santa Ana, New Mexico, by the museum's staff in consultation with representatives of Santa Ana Pueblo and archeologists working with descendant tribes who have ancestral ties to the Galisteo Basin area of northern NM, which includes the Paa'ko site. The people who inhabited this site are linked by Native oral tradition and archeological evidence to members of the present-day Pueblo of Santa Ana, New Mexico.

Determinations Made by the Museum of Indian Arts & Culture/Laboratory of Anthropology, Museum of New Mexico

Officials of the Museum of Indian Arts & Culture/Laboratory of Anthropology, Museum of New Mexico have determined that:

• Pursuant to 25 U.S.C. 3001(3)(B), the 29 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the funerary objects and the Pueblo of Santa Ana, New Mexico.

Additional Requestors and Disposition

Representatives of any other Indian tribe that believes itself to be culturally affiliated with the funerary objects should contact Dr. Shelby Tisdale, Director, Museum of Indian Arts & Culture, P.O. Box 2087, Santa Fe, NM 87504, telephone (505) 476-1251, before May 21, 2012. Repatriation of the funerary objects to the Pueblo of Santa Ana, New Mexico, may proceed after that date if no additional claimants come forward.

The Museum of Indian Arts & Culture/Laboratory of Anthropology, Museum of New Mexico is responsible for notifying the Pueblo of Santa Ana, New Mexico, that this notice has been published.

Dated: April 12, 2012.
David Tarler,
Acting Manager, National NAGPRA Program.

[FR Doc. 2012-9439 Filed 4-18-12; 8:45 am]

BILLING CODE 4312-50-P